DEPARTMENT OF HEALTH AND HUMAN SERVICES

Delegation of Authority

AGENCY: Substance Abuse and Mental Health Services Administration, Department of Health and Human Services.

ACTION: Notice.

SUMMARY: The Secretary of the United States Department of Health and Human Services delegated his authorities to the Assistant Secretary for Mental Health and Substance Use within the Substance Abuse and Mental Health Services Administration (SAMHSA) on May 4, 2023. This action is necessary to complete rulemaking being undertaken in conjunction with the Drug Enforcement Administration.

SUPPLEMENTARY INFORMATION: Notice is hereby given that the Secretary of the United States Department of Health and Human Services (HHS) has delegated to the Assistant Secretary for Mental Health and Substance Use within the Substance Abuse and Mental Health Services Administration (SAMHSA) the authorities vested in the Secretary of HHS under Title 21, Chapter 13, Subchapter I, Part A, Section 802(54)(G) of the United States Code (21 U.S.C. 802(54)(G)) on May 4, 2023.

21 U.S.C. 802(54)(G) authorizes the Secretary of HHS and the Attorney General to issue regulations (including in 42 CFR chapter I, if appropriate) that define the term “practice of telemedicine” for purposes of Title 21, Chapter 13, Subchapter I, as the practice of medicine in accordance with applicable Federal and State laws by a practitioner (other than a pharmacist) who is at a location remote from the patient and is communicating with the patient, or health care professional who is treating the patient, using a telecommunications system referred to in section 1395m(m) of title 42, which practice is being conducted under any circumstances that the Attorney General and the Secretary have jointly, by regulation, determined to be consistent with effective controls against diversion and otherwise consistent with the public health and safety.

These authorities may not be redelegated and shall be exercised under the Department's policy on regulations and the existing delegation of authority to approve and issue regulations. In addition, I hereby ratify and affirm any actions taken by the Assistant Secretary for Mental Health and Substance Use, or other SAMHSA officials, which involved the exercise of the authorities delegated prior to the effective date of the delegation on May 4, 2023.

Xavier Becerra,
Secretary of Health and Human Services.

[FR Doc. 2023-10041 Filed 5-9-23; 8:45 am]

BILLING CODE 4162-20-P